DEPARTMENT OF HEALTH AND HUMAN SERVICES

Centers for Disease Control and Prevention

[30Day-08-07BK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Transgender HIV Behavioral Survey (THBS)—New—National Center for HIV, Viral Hepatitis, STD, and TB Prevention (NCHHSTP), Centers for Disease Control and Prevention (CDC).

Background and Brief Description

The Centers for Disease Control and Prevention request approval for a term of 2 years for a new project that will pilot a questionnaire and protocol for an HIV-related behavioral survey among transgender persons of color. The objectives of the pilot will be to assess the content of the questionnaire as well as the efficiency and feasibility of the methods for sampling and recruiting transgender persons.

The goal of the survey is to inform health departments, community based organizations, community planning groups and other stakeholders: (a) The prevalence of risk behaviors, (b) the prevalence of HIV testing and HIV infection; (c) the prevalence of the use of HIV prevention services; and, (d) identify met and unmet needs for HIV prevention services. This project addresses the goals of CDC's HIV Prevention Strategic Plan, specifically the goal of strengthening the national capacity to monitor the HIV epidemic to better direct and evaluate prevention efforts.

Data will be collected through in-person and computer-assisted self interviews conducted in 4 Metropolitan Statistical Areas (MSA) throughout the United States. The MSA chosen will be among those currently participating in the National HIV Behavioral Surveillance system (see Federal Register dated January 19, 2007: Vol. 72, No. 12, pages 2529-2530). A brief, in-person, computer-assisted screening interview will be used to determine eligibility for participation in the full survey. Data for the full survey will be collected using computer-assisted self interviews. Besides determining the content of the final survey instrument and the sampling methods, the data from the full survey will provide estimates of behavior related to the risk of HIV and other sexually transmitted diseases, prior testing for HIV, and use of HIV prevention services. No other federal agency systematically collects this type of information from transgender persons at risk for HIV infection. This data will have substantial impact on prevention program development and monitoring at the local, state, and national levels.

CDC estimates that, in each year, THBS will involve eligibility screening of a total of 240 persons and will collect survey information from 200 eligible respondents. Thus, over the two year period 480 persons are estimated to complete the screener and 400 eligible respondents to complete the survey. Participation of respondents is voluntary and there is no cost to the respondents other than their time. The total annualized burden is 170 hours.

Estimated Annualized Burden Hours
Respondents | Form | Number of respondents | Number of responses per respondent | Average burden per response (in hours)
Referred Individuals | Screener | 240 | 1 | 5/60
Eligible Respondents | Survey | 200 | 1 | 45/60

Dated: July 15, 2008.
Maryam I. Daneshvar,
Acting Reports Clearance Officer, Centers of Disease Control and Prevention.

[FR Doc. E8-16938 Filed 7-23-08; 8:45 am]

BILLING CODE 4163-18-P